DEPARTMENT OF AGRICULTURE

Animal and Plant Health Inspection Service

7 CFR Part 301

[Docket No. 00-088-2]

Karnal Bunt; Regulated Areas

AGENCY: Animal and Plant Health Inspection Service, USDA.

ACTION: Final rule.

SUMMARY: We are amending the regulations by adding new areas to the list of areas regulated because of Karnal bunt, a fungal disease of wheat, due to the detection during the 2000 harvest of bunted kernels in grain grown in these areas. We are also removing certain fields from regulation because wheat is no longer grown in those fields or because fields previously classified as regulated areas have produced grain that has tested negative for Karnal bunt. These actions will help prevent the spread of Karnal bunt into noninfested areas of the United States and remove from regulation certain fields where restrictions no longer appear to be warranted.

EFFECTIVE DATE: December 5, 2001.

FOR FURTHER INFORMATION CONTACT: Dr. Vedpal S. Malik, National Karnal Bunt Coordinator, PPQ, APHIS, USDA, 4700 River Road Unit 134, Riverdale, MD 20737-1236; (301) 734-6774.

SUPPLEMENTARY INFORMATION:

Background

Karnal bunt is a fungal disease of wheat (Triticum aestivum), durum wheat (Triticum durum), and triticale (Triticum aestivum X Secale cereale), a hybrid of wheat and rye. Karnal bunt is caused by the fungus Tilletia indica (Mitra) Mundkur and is spread by spores, primarily through the planting of infected seed. Some countries in the international wheat market regulate Karnal bunt as a fungal disease requiring quarantine; therefore, without measures taken by the Animal and Plant Health Inspection Service (APHIS), United States Department of Agriculture (USDA), to prevent its spread, the presence of Karnal bunt in the United States could have significant consequences with regard to the export of wheat to international markets.

The regulations regarding Karnal bunt are set forth in 7 CFR 301.89-1 through 301.89-16 (referred to below as the regulations).

On April 20, 2001, we published in the Federal Register (66 FR 20204-20208, Docket No. 00-088-1) a proposal to amend the regulations by adding new areas to the list of areas regulated because of Karnal bunt due to the detection during the 2000 harvest of bunted kernels in grain grown in those areas. We also proposed to remove fields from regulation because wheat is no longer grown in those fields or because the fields, which were previously classified as regulated areas because they were planted with seed that was suspected to be contaminated with Karnal bunt, have now produced grain that has tested negative for Karnal bunt.

We solicited comments concerning our proposal for 60 days ending June 19, 2001. We did not receive any comments. Therefore, for the reasons given in the proposed rule, we are adopting the proposed rule as a final rule, without change. However, since the publication of the proposed rule, we have published two interim rules adding regulated areas in Texas. Specifically, in an interim rule effective on June 8, 2001, and published on June 14, 2001, (66 FR 32209-32210, Docket No. 01-058-1), we added Throckmorton and Young Counties, TX, to the list of regulated areas in § 301.89-3(f) and solicited comments on that action for 60 days ending on August 13, 2001. Subsequently, we published a second interim rule, effective on July 13, 2001, and published on July 19, 2001 (66 FR 37575-37576, Docket No. 01-063-1), that added Archer and Baylor Counties, TX, to that list, and solicited comments on that action for 60 days ending on September 17, 2001. The addition of those four counties to the list of regulated areas is reflected in § 301.89-3(f) in this rule.

Effective Date

This is a substantive rule that, in part, relieves restrictions and, pursuant to the provisions of 5 U.S.C. 553(d)(1), the provisions of this rule that relieve restrictions may be made effective less than 30 days after publication in the Federal Register. This rule removes certain fields in Arizona and New Mexico from the list of areas regulated because of Karnal bunt either because wheat is no longer grown in those fields or because grain from those fields has tested negative for Karnal bunt. This action will eliminate restrictions on the movement of wheat and other regulated articles from these fields.

This rule also adds certain fields in Arizona to the list of regulated areas due to the detection of Karnal bunt. This action is necessary to help prevent the spread of the disease to noninfested areas in the United States. Consequently, we find good cause under 5 U.S.C. 553(d)(3) to make these restrictions effective less than 30 days after publication in the Federal Register.

Therefore, the Administrator of the Animal and Plant Health Inspection Service has determined that this rule should be effective upon publication in the Federal Register.

Executive Order 12866 and Regulatory Flexibility Act

This rule has been reviewed under Executive Order 12866. For this action, the Office of Management and Budget has waived its review under Executive Order 12866.

Upon the initial detection of Karnal bunt in Arizona in March of 1996, a Federal quarantine and emergency actions were imposed to prevent the interstate spread of the disease to other wheat producing areas in the United States. The quarantine has remained in effect, although it has since been modified in terms of its physical boundaries and restrictions on the production and movement of regulated articles.

Effects on Deregulated Areas

This final rule will remove from regulation 9 fields in Arizona and 16 fields in New Mexico, reducing the size of the regulated area in both States. The fields that are being removed by this rule cover about 290 acres in Arizona and 530 acres in New Mexico.

We estimate that one wheat producer in Arizona and six wheat producers in New Mexico will be affected by that aspect of this rule. Under the regulations, wheat, durum wheat, and triticale may only be moved from regulated areas to nonregulated areas if it tests negative for bunted kernels. Additionally, commercial wheat seed may not be moved from regulated to nonregulated areas. Producers whose fields are removed from regulation will benefit because they will be able to move wheat and other regulated articles from these fields without restriction.

These benefits, however, are likely to be minimal. Considering that the testing of grain for Karnal bunt is already a free service for all producers in regulated areas, the elimination of testing requirements removes an inconvenience only, not a financial burden. Further, little or no commercial wheat seed is, or is expected to be, grown in the affected fields.

Similarly, this aspect of the rule will not serve to significantly reduce the need for equipment cleaning by producers or by custom combine harvesters who routinely move their machines into and out of regulated areas to harvest wheat for multiple producers. In the past, there has been little need for such cleaning because crops harvested in the affected fields have not produced bunted kernels, and equipment must be cleaned only if it has been used to harvest host crops that test positive for Karnal bunt.

One field in Arizona will be removed from regulation because it is currently being used for the construction of houses. In this case, no wheat producers or custom harvesters will be affected because the field is not being used for agricultural purposes.

Effects on Regulated Areas

The new areas being added to the regulated area in Arizona cover about 23,100 acres and contain approximately 600 fields. We estimate that about 15 wheat producers and 6 custom combine harvesters will be affected by this aspect of the rule. However, the effect on each is not likely to be significant. As previously stated, the required grain testing is performed free of charge for producers in regulated areas. Also, little or no commercial wheat seed is, or is expected to be, grown in the affected fields. Finally, mechanized harvesting equipment does not have to be cleaned and disinfected prior to movement from a regulated area unless it has been used to harvest crops that test positive for Karnal bunt.

Overall, the regulated agricultural acreage in Arizona will increase by about 22,810 acres to approximately 281,000 acres. In New Mexico, regulated agricultural acreage will decrease by approximately 530 acres to about 3,300 acres.

The Regulatory Flexibility Act requires that agencies consider the economic effects of their rules on small businesses, organizations, and governmental jurisdictions. In this case, entities that will be most affected by this rule are wheat producers and custom combine harvesters. The size of these entities is unknown. It is reasonable to assume, however, that most are small in size according to the U.S. Small Business Administration's (SBA) criteria. This assumption is based on composite data for providers of the same and similar services. For example, in 1997, of the 6,135 wheat and other farms in Arizona, 89 percent had annual sales of less than $0.5 million, the SBA's threshold for a small wheat farm. Similarly, in 1997, there were 366 U.S. firms involved in mechanical harvesting and related activities, including combining of crops. Of these firms, 93 percent had less than $5.0 million in annual sales, which is the SBA's threshold for a small entity for businesses of that type.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This final rule has been reviewed under Executive Order 12988, Civil Justice Reform.

This rule: (1) Preempts all State and local laws and regulations that are inconsistent with this rule; (2) has no retroactive effect; and (3) does not require administrative proceedings before parties may file suit in court challenging this rule.

Paperwork Reduction Act

This final rule contains no information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. In § 301.89-3, paragraph (f) is revised to read as follows:

§ 301.89-3 Regulated areas.

* * * * *

(f) The following areas or fields are designated as regulated areas (maps of the regulated areas may be obtained by contacting the Animal and Plant Health Inspection Service, Plant Protection and Quarantine, 4700 River Road Unit 134, Riverdale, MD 20737-1236):

Arizona

La Paz County. (1) Beginning at the southeast corner of sec. 33, T. 5 N., R. 21 W.; then west to the Colorado River; then north along the Colorado River to the west edge of sec. 26, T. 6 N., R. 22 W.; then north to the northwest corner of sec. 26, T. 6 N., R. 22 W.; then east to the northeast corner of sec. 27, T. 6 N., R. 21 W.; then south to the southeast corner of sec. 10, T. 5 N., R. 21 W.; then west to the southwest corner of sec. 10, T. 5 N, R. 21 W.; then south to the point of beginning.

(2) Beginning at the southeast corner of sec. 6, T. 7 N., R. 20 W.; then west to the southeast corner of sec. 35, T. 7 N., R. 21 W.; then south to the southeast corner of sec. 2, T. 6 N., R. 21 W; then west to the southeast corner of sec. 3, T. 6 N., R. 21 W.; then south to the southeast corner of sec. 15, T. 6 N., R. 21 W.; then west to the southwest corner of sec. 13, T. 6 N., R. 22 W., then north to the northwest corner of sec. 25, T. 7 N., R. 22 W.; then east to the southwest corner of sec. 19, T. 7 N., R. 21 W.; then north to the Colorado River; then northeast along the Colorado River to the north edge of sec. 32, T. 8 N., R. 21 W.; then east to the northeast corner of sec. 31, T. 8 N., R. 20 W.; then south to the point of beginning.

Maricopa County. (1) Beginning at the southeast corner of sec. 12, T. 6 S., R. 6 W.; then west to the southwest corner of sec. 7, T. 6 S., R. 6 W.; then north to the northwest corner of sec. 7, T. 6 S., R. 6 W.; then west to the southwest corner of sec. 2, T. 6 S., R. 7 W.; then north to the northwest corner of sec. 14, T. 5 S., R. 7 W.; then east to the northeast corner of sec. 18, T. 5 S., R. 6 W.; then south to the southeast corner of sec. 19, T. 5 S., R. 6 W.; then east to the northeast corner of sec. 25, T. 5 S., R. 6 W.; then south to the point of beginning.

(2) Beginning at the southeast corner of sec. 34, T. 1 N., R. 2 W.; then west to the northeast corner of sec. 5, T. 1 S., R. 2 W.; then south to the southeast corner of sec. 8, T. 1 S., R. 2 W.; then west to the southeast corner of sec. 11, T. 1 S., R. 4 W.; then south to the southeast corner of sec. 14, T. 1 S, R. 4 W.; then west to the southwest corner of sec. 14, T. 1 S., R. 5 W.; then north to the northwest corner of sec. 14, T. 1 N., R. 5 W.; then east to the northwest corner of sec. 17, T. 1 N., R. 2 W.; then north to the northwest corner of sec. 8, T. 1 N., R. 2 W.; then east to the northeast corner of sec. 10, T. 1 N., R. 2 W.; then south to the point of beginning.

(3) Beginning at the southeast corner of sec. 28, T. 1 S., R. 2 E.; then west to the southwest corner of sec. 30, T. 1 S., R. 2 E.; then north to the southwest corner of sec. 18, T. 1 S., R. 2 E.; then west to the southwest corner of sec. 14, T. 1 S., R. 1 E.; then north to the southwest corner of sec. 2, T. 1 S., R. 1 E.; then west to the southwest corner of sec. 4, T. 1 S., R. 1 E.; then north to the northwest corner of sec. 4, T. 1 S., R. 1 E.; then west to the southwest corner of sec. 36, T. 1 N., R. 2 W.; then north to the southwest corner of sec. 25, T. 2 N., R. 2 W.; then west to the southwest corner of sec. 27, T. 2 N., R. 2 W.; then north to the northwest corner of sec. 3, T. 3 N., R. 2 W.; then east to the northeast corner of sec. 1, T. 3 N., R. 1 W.; then south to the northwest corner of sec. 19, T. 3 N., R. 1 E.; then east to the northeast corner of sec. 23, T. 3 N., R. 1 E.; then south to the southeast corner of sec. 35, T. 3 N., R. 1 E.; then east to the northeast corner of sec. 1, T. 2 N., R. 1 E.; then south to the northwest corner of sec. 18, T. 1 N., R. 2 E.; then east to the northeast corner of sec. 13, T. 1 N., R. 2 E.; then south to the southeast corner of sec. 12, T. 1 S., R. 2 E.; then west to the southeast corner of sec. 9, T. 1 S., R. 2 E.; then south to the point of beginning.

(4) Beginning at the southeast corner of sec. 34, T. 2 N., R. 5 E.; then west to the southwest corner of sec. 31, T. 2 N., R. 5 E.; then north to the northwest corner of sec. 7, T. 2 N., R. 5 E.; then east to the northeast corner of sec. 10, T. 2 N., R. 5 E.; then south to the point of beginning.

(5) Beginning at the intersection of the Maricopa/Pinal County line and the southwest corner of sec. 31, T. 2 S., R. 5 E.; then north to the northwest corner of sec. 31, T. 2 S., R. 5 E.; then west to the southwest corner of sec. 25, T. 2 S., R. 4 E.; then north to the southwest corner of sec. 13, T. 2 S., R. 4 E.; then west to the southwest corner of sec. 15, T. 2 S., R. 4 E; then north to the northwest corner of sec. 3, T. 2 S., R. 4 E.; then east to the southwest corner of sec. 35, T. 1 S., R. 4 E.; then north to the northwest corner of sec. 35, T. 1 S., R. 4 E.; then east to the northwest corner of sec. 34, T. 1 S., R. 5 E.; then north to the northwest corner of sec. 22, T. 1 S., R. 5 E.; then east to the northwest corner of sec. 20, T. 1 S., R. 6 E.; then north to the northwest corner of sec. 8, T. 1 S., R. 6 E.; then east to the northeast corner of sec. 7, T. 1 S., R. 7 E.; then south to the southeast corner of sec. 31, T. 1 S., R. 7 E.; then east to the northeast corner of sec. 5, T. 2 S., R. 7 E.; then south to the southeast corner of sec. 5, T. 2 S., R. 7 E.; then east to the Maricopa/Pinal County line; then south and west along the Maricopa/Pinal County line to the point of beginning.

(6) The following individual fields in Maricopa County are regulated areas:

301060505, 301060506, 301060601, 301060602, 301060603 301060604, 301102505, 301102506, 303111502, 303111503, 304031904, 304031906, 304073004, 304073005, 304073010, 304081410, 304081413, 304081415, 304081417, 304081505, 304081506, 304082202, 304082302, 304082303, 304082607, 304082703, 306013222, 306013231, 306020404, 306020501, 306020601, 306020623, 316123301, 316123302, 316123303, 316131901, 316131904, 316132302, 316132604,

Pinal County. (1) Beginning at the intersection of the Maricopa/Pinal County line and the northwest corner of sec. 7, T. 2 S., R. 8 E.; then east to the northeast corner of sec. 8, T. 2 S., R. 8 E.; then south to the southeast corner of sec. 8, T. 2 S., R. 8 E.; then east to the northeast corner of sec. 16, T. 2 S., R. 8 E., then south to the southeast corner of sec. 28, T. 2 S., R. 8 E.; then west to the southeast corner of sec. 29, T. 2 S., R. 8 E.; then south to the southeast corner of sec. 32, T. 2 S., R. 8 E.; then west to the Maricopa/Pinal County line; then north along the Maricopa/Pinal County line to the point of beginning.

(2) Beginning at the point of intersection of the Maricopa/Pinal County line and the northeast corner of sec. 5, T. 3 S., R. 6 E.; then south to the southeast corner of sec. 32, T. 3 S., R. 6 E.; then west to the southwest corner of sec. 34, T. 3 S., R. 5 E.; then north to the southwest corner of sec. 3, T. 3 S., R. 5 E.; then west to the southwest corner of sec. 6, T. 3 S., R. 5 E.; then north to the Maricopa/Pinal County line; then east along the Maricopa/Pinal County line to the point of beginning.

(3) Beginning at the southeast corner of sec. 5, T. 6 S., R. 4 E.; then west to the southwest corner of sec. 5, T. 6 S., R. 3 E.; then north to the southwest corner of sec. 28, T. 5 S., R. 3 E.; then west to the southwest corner of sec. 25, T. 5 S., R. 2 E.; then north to the southwest corner of sec. 24, T. 5 S., R. 2 E.; then west to the southwest corner of sec 23, T. 5 S., R. 2 E.; then north to the northwest corner of sec. 35, T. 4 S., R. 2 E.; then east to the northwest corner of sec. 36, T. 4 S., R. 2 E.; then north to the northwest corner of sec. 25, T. 4 S., R. 2 E.; then east to the northwest corner of sec. 29, T. 4 S., R. 3 E.; then north to the northwest corner of sec. 20, T. 4 S.,R. 3 E.; then east to the northeast corner of sec. 21, T. 4 S., R. 4 E.; then south to the northeast corner of sec. 4, T. 5 S., R. 4 E.; then east to the northeast corner of sec. 3, T. 5 S., R. 4 E., then south to the southeast corner of sec. 22, T. 5 S., R. 4 E.; then west to the southeast corner of sec. 21, T. 5 S., R. 4 E.; then south to the point of beginning.

(4) The following individual fields in Pinal County are regulated areas:

307012207, 308102604, 308102605, 309021801, 309021804, 309021812, 309031304, 309033507, 309042544, 309042545, 309042601, 309042607, 309042619, 309042620, 309042621, 309050104, 309050109, 309050122, 309050207, 309050209,

Yuma County. The following individual fields in Yuma County are regulated areas: 321011103, 321033501, 321033502, 321033503, 321033516, 321033517, 321033518, 321033519, 321040405, 321040911, 321040912, 321040915, 321040917, 321040918, 321040921, 321040922, 321041908, 321041919, 323030401, 323030402, 323030403, 323030404, 323030405, 323030406, 323030501, 323030502, 323030512, 323030513, 323030514, 323030515, 323030521.

California

Imperial County. Beginning at the intersection of the Riverside/Imperial County line and the California/Arizona State line; then west to the northwest corner of sec. 1, T. 9 S., R. 21 E.; then south to the California/Arizona State line; then east and north along the State line to the point of beginning.

Riverside County. Beginning at the intersection of the Riverside/Imperial County line and the California/Arizona State line; then west to the southwest corner of sec. 31, T. 8 S., R. 22 E.; then north to the northwest corner of sec. 30, T. 7 S., R. 22 E.; then north and northeast along the Palo Verde Valley agriculture area to the California/Arizona State line; then south along the State line to the point of beginning.

New Mexico

Dona Ana County. The following individual fields in Dona Ana County are regulated areas: 113040501, 113040502, 113040506, 113040507, 113040508, 113040602, 113040702, 113040902, 113042601, 113042707, 113042708, 113043401, 113043407, 113050201, 113050202, 113050301, 113060702, 113060703, 113060801, 113060809, 113060901, 113060902, 113070702, 113072701, 113072702, 113072703, 113072704, 113072705, 113072706, 113173103, 113210401, 113210402, 113210403, 113210406, 113210407, 113210808, 113212103, 113212802, 113212806, 113241601, 113242708,

Hildalgo County. The following individual fields in Hidalgo County are regulated areas: 123272403, 123353001.

Luna County. The following individual fields in Luna County are regulated areas: 129011301, 129012201, 129013003, 129013006, 129060901, 129060902, 129062001, 129062802, 129232801, 129232805, 129232806, 129300506, 129301104, 129301701, 129301801, 129302702, 129303302, 129440601, 129440602, 129440701, 129440708, 129441701,

Sierra County. The following individual fields in Sierra County are regulated areas: 151013401, 151441201, 151441202, 151441306, 151442201, 151442601, 151442602, 151442603, 151442604, 151442605, 151442606, 151442607, 151442608, 151442609, 151442610, 151442611, 151442612, 151442613, 151442614, 151442701, 151443501, 151443502, 151443503, 151443601, 151443602, 151443603, 151443604, 151453001, 151453101, 151453102, 151453103, 151453104, 151453106.

Texas

Archer County. The entire county.

Baylor County. The entire county.

El Paso County. The following individual fields in El Paso County are regulated areas: 441141301, 441142301, 441142302, 441142303, 441142304, 441142305, 441142306, 441142307, 441142401, 441142402, 441142403, 441142404, 441241301, 441241302, 441252801, 441252803, 441252804, 441252901, 441253201, 441253302, 441253401.

Hudspeth County. The following individual fields in Hudspeth County are regulated areas: 429050701, 429050702, 429070101, 429070102.

McCulloch County. Beginning at the McCulloch/San Saba County line and the line of latitude 31.232299 N.; then west along the line of latitude 31.232299 N. to the line of longitude -99.13473 W.; then north along the line of longitude -99.13473 W. to the line of latitude 31.31004 N.; then east along the line of latitude 31.31004 N. to the line of longitude -99.11427 W.; then north along the line of longitude -99.11427 W. to the line of latitude 31.283487 N.; then east along the line of latitude 31.283487 N. to the McCulloch/San Saba County line; then south to the point of beginning.

San Saba County. (1) Beginning at the San Saba/Mills County line and the line of longitude -98.5851 W.; then south along the line of longitude -98.5851 W to the line of latitude 31.167959 N.; then west along the line of latitude 31.167959 N. to the line of longitude -98.903233 W.; then north along the line of longitude -98.903233 W. to the line of latitude 31.310819 N.; then east along the line of latitude 31.310819 N. to the San Saba/Mills County line; then south along the San Saba/Mills County line to the point of beginning.

(2) Beginning at the San Saba/McCulloch County line and the line of latitude 31.283487 N.; then east along the line of latitude 31.283487 N. to the line of longitude -99.063487 W.; then south along the line of longitude -99.063487 W. to the line of latitude 31.232299 N.; then west along the line of latitude 31.232299 N. to the San Saba/McCulloch County line; then north along the San Saba/McCulloch County line to the point of beginning.

Throckmorton County. The entire county.

Young County. The entire county.

Done in Washington, DC, this 29th day of November 2001 .
W. Ron DeHaven,
Acting Administrator, Animal and Plant Health Inspection Service.

[FR Doc. 01-30105 Filed 12-4-01; 8:45 am]

BILLING CODE 3410-34-P